Proclamation 10923 of April 23, 2025

National Volunteer Week, 2025

By the President of the United States of America

A Proclamation

Every day, countless volunteers strengthen and enrich communities across the country through their selfless service. This National Volunteer Week, we offer our gratitude to every individual who generously volunteers their time, talent, and resources to influence and impact the lives of their neighbors, their communities, and the Nation as a whole.

Volunteerism is central to the American way of life, exemplifying the spirit that makes America great. In soup kitchens, shelters, schools, hospitals, and religious organizations across the country, volunteers encompass a spirit of kindness and compassion to help those in need. These exemplary citizens are role models for their communities and inspire us all with their commitment to selfless service.

During National Volunteer Week, we pay tribute to every American who gives their time and talents in service to our Nation. We celebrate their selfless spirit—the driving force that inspires them to uplift others and serve a purpose greater than their own. In times of need, the American people emerge stronger than ever.

NOW, THEREFORE, I, DONALD J. TRUMP, President of the United States of America, by virtue of the authority vested in me by the Constitution and the laws of the United States, do hereby proclaim April 20 through April 26, 2025, as National Volunteer Week. I call upon all Americans to observe this week by volunteering in service projects across our country and pledging to make service a part of their daily lives.

IN WITNESS WHEREOF, I have hereunto set my hand this twenty-third day of April, in the year of our Lord two thousand twenty-five, and of the Independence of the United States of America the two hundred and forty-ninth.

[FR Doc. 2025-07367

Filed 4-25-25; 8:45 am]

Billing code 3395-F4-P